DEPARTMENT OF COMMERCE

International Trade Administration

[A-201-845]

Agreement Suspending the Antidumping Duty Investigation on Sugar from Mexico: Final Results of the 2021-2022 Administrative Review

AGENCY: Enforcement and Compliance, International Trade Administration, Department of Commerce.

SUMMARY: The U.S. Department of Commerce (Commerce) determines that the Agreement Suspending the Antidumping Duty Investigation on Sugar from Mexico, as amended (AD Agreement) met the statutory requirements during the period of review (POR) from December 1, 2021, through November 30, 2022. Commerce also determines that the respondents selected for individual examination, Compañía Industrial Azucarera S.A. de C.V. and its affiliates (collectively, Santos Group) and Ingenio Presidente Benito Juarez S.A. de C.V. (collectively, the respondents), were in compliance with the terms of the AD Agreement during the POR.

DATES: Applicable June 28, 2024.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On December 27, 2023, Commerce published the preliminary results of this administrative review.¹ Immediately preceding the Preliminary Results, the Santos Group submitted its response to Commerce's second supplemental questionnaire on December 20, 2023. On May 13, 2024, Commerce issued post-preliminary results.²

¹ See Agreement Suspending the Antidumping Duty Investigation on Sugar From Mexico: Preliminary Results of the 2021-2022 Administrative Review and Postponement of Final Results, 88 FR 89367 (December 27, 2023).

² See Memorandum, “Decision Memorandum for the Post-Preliminary Results of the 2021-2022 Administrative Review: Sugar from Mexico,” dated May 13, 2024.

On May 29, 2024, the American Sugar Coalition and its members (collectively, the petitioners) ³ filed a case brief.⁴ On June 3, 2024, Cámara Nacional de Las Industrias Azucarera y Alcoholera and the Santos Group filed a letter in lieu of rebuttal brief.⁵ For a complete description of the events that occurred since the Preliminary Results, see the Issues and Decision Memorandum.⁶

³ The members of the American Sugar Coalition are as follows: American Sugar Cane League; American Sugarbeet Growers Association; American Sugar Refining, Inc.; Florida Sugar Cane League; Rio Grande Valley Sugar Growers, Inc.; Sugar Cane Growers Cooperative of Florida; and the United States Beet Sugar Association.

⁴ See Petitioners' Letter, “Case Brief on Behalf of the American Sugar Coalition,” dated May 29, 2024.

⁵ See Respondents' Letter, “Letter in Lieu of Rebuttal Brief,” dated June 3, 2024.

⁶ See Memorandum, “Issues and Decision Memorandum for the Final Results of the 2021-2022 Administrative Review of the Agreement Suspending the Antidumping Duty Investigation on Sugar from Mexico,” dated concurrently with, and hereby adopted by, this notice (Issues and Decision Memorandum).

Scope of the AD Agreement

The product covered by this AD Agreement is raw and refined sugar of all polarimeter readings derived from sugar cane or sugar beets. Merchandise covered by this AD Agreement is typically imported under the following headings of the HTSUS: 1701.12.1000, 1701.12.5000, 1701.13.1000, 1701.13.5000, 1701.14.1020, 1701.14.1040, 1701.14.5000, 1701.91.1000, 1701.91.3000, 1701.99.1015, 1701.99.1017, 1701.99.1025, 1701.99.1050, 1701.99.5015, 1701.99.5017, 1701.99.5025, 1701.99.5050, and 1702.90.4000.⁷ The tariff classification is provided for convenience and customs purposes; however, the written description of the scope of this AD Agreement is dispositive.

⁷ Prior to July 1, 2016, merchandise covered by the AD Agreement was classified in the HTSUS under subheading 1701.99.1010. Prior to January 1, 2020, merchandise covered by the AD Agreement was classified in the HTSUS under subheadings 1701.14.1000 and 1701.99.5010.

A full description of the scope of the AD Agreement is contained in the Issues and Decision Memorandum.

Analysis

Commerce continues to determine that, based on record evidence, respondents were in compliance with the terms of the AD Agreement during the POR. We also determine that the AD Agreement met the statutory requirements under sections 734(c) and (d) of the Tariff Act of 1930, as amended (the Act), during the POR.

The issues raised in the case and rebuttal briefs are addressed in the accompanying Issues and Decision Memorandum and business proprietary memorandum.⁸ The issues are identified in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁸ See Issues and Decision Memorandum; see also Memorandum, “Proprietary Analysis Memorandum for the Final Results: Compañía Industrial Azucarera S.A. de C.V. and its Affiliates,” dated concurrently with, and hereby adopted by, this notice.

Administrative Protective Order

This notice also serves as a reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these results of review in accordance with sections 751(a)(l) and 777(i)(l) of the Act and 19 CFR 351.213 and 19 CFR 351.221(b)(5).

Dated: June 24, 2024.
Ryan M. Majerus,
Deputy Assistant Secretary for Policy and Negotiations, performing the non-exclusive functions and duties of the Assistant Secretary for Enforcement and Compliance.

Appendix

List of Topics Discussed in the Issues and Decision Memorandum

I. Summary

II. Background

III. Scope of the Agreement

IV. Discussion of the Issue

Comment: Whether Commerce Should Include Certain Sales in the Calculation of Normal Value

V. Recommendation

[FR Doc. 2024-14237 Filed 6-27-24; 8:45 am]

BILLING CODE 3510-DS-P